ENVIRONMENTAL PROTECTION AGENCY

[ER-FRL-6676-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060091, ERP No. D-AFS-K65303-CA, Phoenix Project Area, Treat Poor Forest Health, High Fire Hazard Condition, Develop a Network of Defensible Fuel Profile Zones (DFPZs), and Restore Aspen Stand, Sierraville Ranger District, Tahoe National Forest, Sierra and Nevada Counties, CA.

Summary

EPA expressed environmental concerns about potential impacts to watershed resources, air quality, and noxious weeds, and recommended additional measures to avoid or mitigate them. Rating EC2.

EIS No. 20060109, ERP No. D-NPS-E65080-KY, Abraham Lincoln Birthplace National Historic Site, General Management Plan, Implementation, LaRue County, KY.

Summary

EPA does not object to the proposed action. Rating LO.

EIS No. 20060124, ERP No. D-AFS-F65062-MN, Echo Trail Area Forest Management Project, Forest Vegetation Management and Related Transportation System, Superior National Forest Land and Resource Management Plan, Lacroix Ranger District and Kawishiwi Ranger District, St. Louis and Lake Counties, MN.

Summary

EPA expressed environmental concerns about potential impacts to water quality and soil resources from erosion, oil spill or leaks, and compaction as well as emissions from logging equipment, and suggested that the Final EIS include a mitigation plan detailing avoidance or mitgation measures for potential impacts. Rating EC2.

EIS No. 20060137, ERP No. D-AFS-F65063-WI, Twentymile Restoration Project Area, Restore Northern Hardwood Forests to an Uneven-aged Condition, Great Divide Ranger District, Chequamegon-Nicolet National Forest, Ashland and Bayfield Counties, WI.

Summary

EPA expressed environmental concerns about the proposed alternative meeting the goals set forth in the biological opinion for the management of sensitive species as well as being consistent with the Forest Plan goals of maintaining adequate habitat to support viable populations. Rating EC2.

EIS No. 20060165, ERP No. D-NPS-J65463-CO, Rocky Mountain National Park, Elk and Vegetation Management Plan, Implementation, Grand and Larimer Counties, CO.

Summary

EPA does not object to the proposed project. Rating LO.

Final EISs

EIS No. 20060185, ERP No. F-AFS-F65055-MI, Hiawatha National Forest, Proposed Land and Resource Management Plan, Forest Plan Revision, Implementation, Alger, Cheboygan, Chippewa, Delta, Luce, Mackinac, Marquette, and Schoolcraft Counties, MI.

Summary

EPA does not object to the preferred alternative.

Dated: June 20, 2006.
Robert W. Hargrove,
Director, NEPA Compliance Division, Office of Federal Activities.

[FR Doc. E6-9952 Filed 6-22-06; 8:45 am]

BILLING CODE 6560-50-P